COMMISSION ON CIVIL RIGHTS

Agenda and Notice of Public Meeting of the Montana Advisory Committee

Agenda and Notice of Public Meeting of the Montana Advisory Committee Notice is hereby given, pursuant to the provisions of the rules and regulations of the U.S. Commission on Civil Rights, that a meeting of the Montana Advisory Committee to the Commission will convene at 6 p.m. and adjourn at 8:30 p.m. on Monday, March 31, 2003, at the Holiday Inn Express, 701 Washington Street, Helena, Montana 59601. The purpose of the briefing is a follow up activities to the Committee's report, Equal Educational Opportunity for Native American Students in Montana Public Schools.

Persons desiring additional information, or planning a presentation to the Committee, should contact, John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated in Washington, DC, March 13, 2003.
Ivy L. Davis,
Chief, Regional Programs Coordination Unit.

[FR Doc. 03-6512 Filed 3-18-03; 8:45 am]

BILLING CODE 6335-01-P